DEPARTMENT OF COMMERCE

International Trade Administration

Notice of Request for Public Comment

AGENCY: International Trade Administration, Department of Commerce.

ACTION: Notice of request for public comment.

SUMMARY: The Department of Commerce's International Trade Administration (ITA) is seeking U.S. academic institutions, training centers, and other interested parties who would like to organize joint activities with their counterparts in Vietnam in the field of Information and Communication Technologies (ICT). In 2007, the ITA launched the U.S.-Vietnam ICT Commercial Dialogue with the Ministry of Information and Communications (MIC) in Vietnam to discuss various ICT issues that have an impact on trade between our two countries. The U.S. and Vietnamese companies that participated in the meeting recommended the establishment of a “public/private partnership for the development of human resources through technical training programs.” Therefore MIC has proposed that an Academic Advisory Group be created in addition to a Business Advisory Group under the Dialogue.

The objective of the Academic Advisory Group would be to facilitate an exchange of ideas on the best curriculum to meet the needs of ICT growth, and to increase opportunities for Vietnamese citizens to study in the ICT field in Vietnam through distance learning mechanisms, or at United States institutions.

The initial meeting of the Academic Advisory Group, to be held via videoconference, is tentatively scheduled for November 12, 2008. A representative of the group would make a brief report at the ICT Dialogue Working Group meeting on November 13 in Washington, DC. A follow-up meeting is anticipated in January 2009 in Hanoi.

DATES: November 12-13, 2008.

ADDRESSES: Inquiries about participation in the videoconference should be addressed to the contact below, and received by close of business on Monday, November 10, 2008.

FOR FURTHER INFORMATION CONTACT: Cora Dickson, U.S. Department of Commerce, Office of Technology and Electronic Commerce, 1401 Constitution Avenue, NW., Room 4327, Washington, DC 20230; Telephone: 202-482-6083; Fax: 202-482-5834; E-mail: cora.dickson@mail.doc.gov.

SUPPLEMENTARY INFORMATION: U.S. Ambassador to Vietnam Michael Michalak has made education a top priority. The U.S. Embassy in Hanoi hosted an education conference in January as a first step, and expects to hold another one in January 2009. Vietnam currently faces an estimated deficit of $100 million per year in funding its educational plans, and is trying to close the gap by seeking international support in paying for and helping implement reforms. In the field of ICT, Vietnam is facing a shortage of qualified workers to meet the increasing need for IT skills as it modernizes its infrastructure. U.S. companies also hope to create opportunities for trade and investment as ICT grows stronger in Vietnam.

Dated: October 14, 2008.
Robin Layton,
Director, Office of Technology and Electronic Commerce.

[FR Doc. E8-24880 Filed 10-17-08; 8:45 am]

BILLING CODE 3510-DR-P